DEPARTMENT OF LABOR

Occupational Safety and Health Administration

[Docket No. OSHA-2016-0002]

Federal Advisory Council on Occupational Safety and Health (FACOSH)

AGENCY: Occupational Safety and Health Administration (OSHA), Labor.

ACTION: Request for nominations to serve on FACOSH.

SUMMARY: The Assistant Secretary of Labor for Occupational Safety and Health invites interested individuals to submit nominations for membership on FACOSH.

DATES: You must submit (postmark, send, transmit, deliver) nominations by April 29, 2016.

ADDRESSES: You may submit nominations and supporting materials using one of the following methods:

Electronically: You may submit materials, including attachments, electronically at http://www.regulations.gov, the Federal eRulemaking Portal. Follow the online instructions for making submissions;

Facsimile (FAX): If your submission, including attachments, does not exceed 10 pages, you may FAX it to the OSHA Docket Office at (202) 693-1648; or

Mail, express delivery, hand delivery, or messenger/courier service: You may submit nominations and supporting materials to the OSHA Docket Office, Docket No. OSHA-2016-0002, Room N-2625, U.S. Department of Labor, 200 Constitution Avenue NW., Washington, DC 20210; telephone (202) 693-2350 (OSHA TTY (877) 889-5627). Deliveries (hand, express mail, messenger/courier service) are accepted during the Department's and the OSHA Docket Office's normal business hours, 8:15 a.m.-4:45 p.m., weekdays.

Instructions: Your nominations and supporting materials must include the agency/organization name and docket number for this Federal Register notice. Due to security-related procedures, receipt of submissions by regular mail may result in a significant delay. Please contact the OSHA Docket Office for information about security procedures for submitting nominations and supporting materials by hand delivery, express delivery, and messenger/courier service. For additional information on submitting nominations and supporting materials, see Public Participation in the SUPPLEMENTARY INFORMATION section of this notice.

OSHA will post submissions, including any personal information provided, without change in the FACOSH docket and they may be available online at http://www.regulations.gov. Therefore, OSHA cautions individuals about submitting certain personal information, such as Social Security numbers and birthdates.

FOR FURTHER INFORMATION CONTACT:

For press inquiries: Mr. Frank Meilinger, Director, OSHA Office of Communications, Room N-3647, U.S. Department of Labor, 200 Constitution Avenue NW., Washington, DC 20210; telephone (202) 693-1999; email meilinger.francis2@dol.gov.

For general information: Mr. Francis Yebesi, Director, OSHA Office of Federal Agency Programs, Room N-3622, U.S. Department of Labor, 200 Constitution Avenue NW., Washington, DC 20210; telephone (202) 693-2122; email ofap@dol.gov.

SUPPLEMENTARY INFORMATION: The Assistant Secretary of OSHA invites interested individuals to submit nominations for membership on FACOSH.

Background. FACOSH is authorized to advise the Secretary of Labor (Secretary) on all matters relating to the occupational safety and health of federal employees (5 U.S.C. 7902; 29 U.S.C. 668, Executive Order 12196, as amended). This includes providing advice on how to reduce and keep to a minimum the number of injuries and illnesses in the federal workforce, and how to encourage the establishment and maintenance of effective occupational safety and health programs in each federal agency.

FACOSH membership. FACOSH is comprised of 16 members, 8 management representatives from federal agencies; and 8 representatives from labor organizations that represent federal employees, whom the Secretary of Labor appoints to staggered terms of up to three years. The number of members the Secretary will appoint to three-year terms beginning January 1, 2017, are:

• Three labor representatives; and

• Three management representatives.

FACOSH members serve at the pleasure of the Secretary and may be appointed to successive terms. FACOSH meets at least twice a year.

The Department of Labor is committed to equal opportunity in the workplace and seeks broad-based and diverse FACOSH membership. Any federal agency, labor organization representing federal workers, or individual(s) may nominate one or more qualified persons for membership on FACOSH. Interested individuals also are invited and encouraged to submit statements in support of a nominee(s).

Nomination requirements. Submission of nominations must include the following information:

1. The nominee's name, contact information and current employment;

2. The nominee's resume or curriculum vitae, including prior membership on FACOSH and other relevant organizations, associations and committees;

3. Category of membership (management or labor) that the nominee is qualified to represent;

4. A summary of the nominee's background, experience and qualifications that address the nominee's suitability to serve on FACOSH;

5. Articles or other documents the nominee has authored that indicate the nominee's knowledge, experience and expertise in occupational safety and health, particularly as it pertains to the federal workforce; and

6. A statement that the nominee is aware of the nomination, is willing to regularly attend and participate in FACOSH meetings, and has no apparent conflicts of interest that would preclude membership on FACOSH.

Member selection. The Secretary appoints FACOSH members based upon criteria that include the nominee's level of responsibility for occupational safety and health matters involving the federal workforce; experience and competence in occupational safety and health; and willingness and ability to regularly and fully participate in FACOSH meetings. Federal agency management nominees who serve as their agency's Designated Agency Safety and Health Official (DASHO), or at an equivalent level of responsibility within their respective federal agencies, are preferred as management members. Labor nominees who have responsibilities for federal employee occupational safety and health matters within their respective labor organizations are preferred as labor members.

Information received through the nomination process, along with other relevant sources of information, will assist the Secretary in making appointments to FACOSH. In selecting FACOSH members, the Secretary will consider individuals nominated in response to this Federal Register notice, as well as other qualified individuals. OSHA will publish a list of the new FACOSH members in the Federal Register.

OSHA will consider any nomination submitted in response to this notice for the vacancies that occur on January 1, 2017. In addition, OSHA will consider the nominations for any vacancy that may occur during 2016 and for member positions that open January 1, 2017, provided the information the nominee submitted continues to remain current and accurate. OSHA believes that `rolling over' nominations for future consideration will make it easier for interested individuals to be considered for membership on FACOSH. This process also will provide OSHA with a broad base of nominations for ensuring that FACOSH membership is fairly balanced as the Federal Advisory Committee Act (5 U.S.C. App.2, Section (5)(b)(2); 41 CFR 102-3.30(c)). OSHA will continue to request nominations as vacancies occur, but nominees whose information is current and accurate will not need to resubmit a nomination.

Public Participation, Submissions, and Access to Public Record

Instructions for submitting nominations. Interested individuals may submit nominations and supplemental materials using one of the methods listed in the ADDRESSES section. All nominations, attachments and other materials must identify the agency name and the docket number for this Federal Register notice. You may supplement electronic nominations by uploading materials electronically. If, instead, you wish to submit hard copies of materials that supplement an electronic submission, you must submit them to the OSHA Docket Office (see ADDRESSES section). The additional material must clearly identify your electronic submission by name and docket number so that the materials can be attached to your nomination.

Because of security-related procedures, the use of regular mail may cause a significant delay in the receipt of nominations. For information about security procedures concerning the submission of materials by mail, hand, express delivery, messenger or courier service, please contact the OSHA Docket Office (see ADDRESSES section).

All submissions in response to this Federal Register notice are posted without change in the FACOSH docket and may be made available online at http://www.regulations.gov. Therefore, OSHA cautions interested parties about submitting personal information, such as Social Security numbers and birthdates. Information on submitting nominations and supporting materials in response to this Federal Register notice is available at http://www.regulations.gov and from the OSHA Docket Office.

Access to docket and other materials. To read or download nominations and additional materials submitted in response to this Federal Register notice, go to Docket No. OSHA-2016-0002 at http://www.regulations.gov. All submissions are listed in the index of that docket; however, some documents (e.g., copyrighted materials) are not publicly available to read or download through that Web page. All submissions, including copyrighted materials, are available at the OSHA Docket Office. Contact the OSHA Docket Office for information about materials not available through http://www.regulations.gov, and for assistance in using the Internet to locate submissions.

Electronic copies of this Federal Register notice are available at http://www.regulations.gov. This document, as well as news releases and other relevant information, also is available at OSHA's Web page at http://www.osha.gov.

Authority and Signature

David Michaels, Ph.D., MPH, Assistant Secretary of Labor for Occupational Safety and Health, directed the preparation of this notice pursuant to 5 U.S.C. 7902; 5 U.S.C. App. 2; 29 U.S.C. 668; Executive Order 12196 (45 CFR 12629 (2/27/1980)), as amended; 41 CFR part 102-3; and Secretary of Labor's Order No. 1-2012 (77 FR 3912).

Signed at Washington, DC, on January 21, 2016.
David Michaels,
Assistant Secretary of Labor for Occupational Safety and Health.

[FR Doc. 2016-02140 Filed 2-3-16; 8:45 am]

BILLING CODE 4510-26-P